DEPARTMENT OF COMMERCE

National Oceanic and Atmospheric Administration

RIN 0648-XF282

Endangered and Threatened Species; Listing and Recovery Priority Guidelines

AGENCY: National Marine Fisheries Service (NMFS), National Oceanic and Atmospheric Administration (NOAA), Commerce.

ACTION: Notice of availability and request for comment.

SUMMARY: We, NMFS, are proposing to revise the Recovery Plan Preparation and Implementation Priorities and Recovery Plans contained in the 1990 Listing and Recovery Priority Guidelines. We propose to revise the guidelines to better prioritize limited agency resources to advance the recovery of threatened and endangered species guided by the immediacy of the species' overall extinction risk, extent of information regarding major threats, and certainty that management or protective actions can be implemented successfully. We are not proposing changes to the Listing, Reclassification, and Delisting Priorities contained in the 1990 Listing and Recovery Priority Guidelines. We have found those guidelines to be sufficient in prioritizing listing actions and thus do not warrant a revision at this time.

DATES: Comments on the proposed revision must be received by close of business on June 30, 2017.

ADDRESSES: You may submit comments on this document, identified by NOAA-NMFS-2017-0020 by either of the following methods:

• Electronic Submissions: Submit all electronic public comments via the Federal e-Rulemaking Portal. Go to www.regulations.gov/#!docketDetail;D=NOAA-NMFS-2017-0020. Click the `Comment Now!” icon, complete the required fields, and enter or attach your comments.

• Mail: Submit written comments to Therese Conant, National Marine Fisheries Service, 1315 East-West Highway, Silver Spring, MD 20910.

Instructions: You must submit comments by one of the above methods to ensure that we receive, document, and consider them. Comments sent by any other method, to any other address or individual, or received after the end of the comment period, may not be considered. All comments received are a part of the public record and will generally be posted for public viewing on http://www.regulations.gov without change. All personal identifying information (e.g., name, address, etc.), confidential business information, or otherwise sensitive information submitted voluntarily by the sender will be publicly accessible. We will accept anonymous comments (enter “N/A” in the required fields if you wish to remain anonymous).

SUPPLEMENTARY INFORMATION:

Background

Section 4(f) of the Endangered Species Act (ESA) (16 U.S.C. 1533(f)) requires the Secretary to develop recovery plans for all species listed pursuant to the ESA, unless he/she finds that such a plan will not promote the recovery of the species. Section 4(h) requires the Secretary to establish a system for developing and implementing, on a priority basis, recovery plans under Section 4(f). We finalized guidance for prioritizing recovery plan development and implementation on June 15, 1990 (55 FR 24296). However, through our application of the Recovery Plan Preparation and Implementation Priorities and Recovery Plans (see parts `B' and `C' June 15, 1990 55 FR 24296), we have determined that the guidelines contain vague definitions and lack sufficient detail regarding factors that should be considered when evaluating threats and recovery potential. For these reasons, we propose revisions to the Recovery Plan Preparation and Implementation Priorities and Recovery Plan parts of the 1990 Listing and Recovery Priority Guidelines.

The Listing, Reclassification, and Delisting Priorities can be found in the original Federal Register notice (see part `A' June 15, 1990 55 FR 24296). The Listing, Reclassification, and Delisting Priorities remain unchanged and will be repeated in the final notice revising parts B and Part C [to maintain the guidance in a single reference].

Proposed Revisions to Part B: Recovery Plan Preparation and Implementation Priorities and Part C: Recovery Plans

Part B: Recovery Plan Preparation and Implementation Priorities

The proposed changes to the Recovery Plan Preparation and Implementation Priorities are:

• The current guidelines consist of 12 species priority numbers. We propose to increase the number of species priority numbers to 24 by redefining the `magnitude of threat' and `recovery potential' criteria (see below);

• The current guidelines consist of a first criterion—magnitude of threat. Magnitude of threat is divided by three categories: `high' meaning extinction is almost certain in the immediate future because of a rapid population decline or habitat destruction; `moderate' meaning the species will not face extinction if recovery is temporarily held off, although there is a continuing population decline or threat to its habitat; and `low' meaning a population facing a short-term, self-correcting fluctuation, or the impacts of the threats to the species' habitat are not fully known. We propose to change the magnitude of threat criterion to a demographic risk rank based on the species listing status (threatened or endangered) and species' condition for productivity, spatial distribution, diversity, abundance, or trends. The `high,' `moderate,' and `low' categories are now based on whether the species is threatened or endangered and whether it meets certain demographic risk conditions (see Table 1 in the revised guidelines below). This proposed change provides greater emphasis on the species' risk and more detail on the factors considered in assigning the risk rank;

• The current guidelines consist of a second criterion—recovery potential. Recovery potential is based on how well biological and ecological limiting factors and threats to the species' existence are understood, and the extent of management actions needed. Recovery potential is divided into two categories: `High' meaning limiting factors and theats to the species are well understood and the needed management actions are known and have a high probability of success; and `low to moderate' meaning limiting factors or threats to the species are poorly understood or if the needed management actions are not known, are cost-prohibitive or are experimental with an uncertain probability of success. We propose to redefine the recovery potential by splitting the criterion into three components: (1) Whether the origin of major threats is known and the species response to those major threats is well understood; (2) whether the United States has jurisdiction, authority, or influence to implement management or protective actions to address major threats; and (3) the certainty that management or protective actions will be effective. Each component has a `high' or `low to moderate' category (see definitions in the revised guidelines below). This proposed change improves the guidelines by including U.S. jurisdiction or ability to influence recovery actions as a consideration in recovery potential and providing greater detail in the recovery potential definition;

• The current guidelines include a third criterion—conflict. Conflict reflects the ESA section 4(f)(1)(A) requirement that recovery priority be given to those species that are, or may be, in conflict with construction or other developmental projects or other forms of economic activity. We propose to revise the guidelines by considering all ESA-listed marine and anadromous species to be in conflict with activities related to construction or other developmental projects, or other forms of economic activity. We are unaware of any ESA-listed species under our authority that is not considered, either directly or indirectly, to be in conflict to some degree with an economic activity. We are therefore reasonably certain that any species under NMFS jurisdiction that may be listed in the future will be in similar conflict. As a result, conflict, is not considered further in the proposed guidance; and

• The current guidelines contain three recovery task priorities defined as: Number 1—an action that must be taken to prevent extinction or to identify those actions necessary to prevent extinction; Number 2—an action that must be taken to prevent a significant decline in population numbers, habitat quality, or other significant negative impacts short of extinction; and number 3—all other actions necessary to provide for full recovery of the species. We propose to add two additional priority numbers: Number 4—actions that are not linked to downlisting and/or delisting criteria and are not needed for ESA recovery, but are needed to facilitate post-delisting monitoring, such as the development of a post-delisting monitoring plan that provides monitoring design (e.g., sampling error estimates); and number 0—actions that are not needed for ESA recovery but that would advance broader goals beyond delisting. Other actions include, for example, other legislative mandates or social, economic, and ecological values (see Table 3 in the revised guidelines below).

Part C. Recovery Plans

The current guidelines specify that as recovery plans are developed, specific recovery tasks are identified and prioritized according to the criteria in the part B Recovery Plan Preparation and Implementation Priorities of the 1990 Listing and Recovery Priority Guidelines. We have updated the entire section to reflect the new proposed prioritization scheme outlined below.

New Proposed Part B: Recovery Plan Preparation and Implementation Priorities

The objective of these guidelines is to implement a policy to prioritize limited agency resources to advance the recovery of threatened and endangered species guided by the immediacy of the species' overall extinction risk, extent of information regarding major threats, and certainty that management and protective actions can be implemented successfully. To achieve the objective, we identified the following general principles for prioritizing recovery plan development and implementation:

• Endangered species are a higher priority than threatened species because of the immediacy of the extinction risk;

• Species with more severe demographic risks are a higher priority because they are at greater risk of extinction;

• Species for which major threats are well understood are a higher priority because in such cases, effective objective, measureable recovery criteria, and site-specific management or protective actions are more likely to be identified for that species;

• Species for which major threats are primarily under U.S. authority, or for which the United States can influence the abatement of such threats through international mechanisms (e.g., treaties, conventions, and agreements), are a higher priority because we have greater influence over the outcome; and

• Species for which there exists possible management or protective actions to address major threats that are not novel or experimental, are technically feasible, and have been successful at removing, reducing, or mitigating effects of major threats are a higher priority, because these actions are more likely to be effective at advancing recovery.

The process to prioritize recovery planning and implementation consists of four steps—(1) identify a category of demographic risk based on the listing status and species' condition related to productivity, spatial distribution, diversity, abundance, and trends (Step 1; Table 1); (2) identify categories for three components of recovery potential (Step 2); (3) based on results of steps 1 and 2, assign a recovery priority for recovery plan development and implementation (Step 3; Table 2); and (4) assign priority rankings to recovery actions within the recovery plan (Step 4; Table 3). This prioritization process reflects a logical sequence for recovery plan development and implementation for a species: First, identify the species' risk; second develop the recovery plan; and third, implement the priority actions and monitor and evaluate progress. As new information is obtained through the monitoring and evaluation process, recovery plans will be updated or revised as described in the NMFS and U.S. Fish and Wildlife Service' Interim Endangered and Threatened Species Recovery Planning Guidance Version 1.3 (http://www.nmfs.noaa.gov/pr/laws/esa/policies.htm).

Step 1. Identify a Demographic Risk Category

As a first step, we categorize the severity of an ESA-listed species' extinction risk based on the productivity, spatial distribution, diversity, and abundance of the species. We assess the species' demographic risk based on information on past threats that have contributed to the species' current status and the biological response of the species to present and future threats. The severity of a species' demographic risk, relative to all species under our jurisdiction, will inform how we prioritize resources toward recovery plan development and implementation.

Depending on the listing status (endangered or threatened), we consider each Demographic Risk Category—productivity, spatial distribution, diversity, and abundance (Table 1; column 1) and the associated risk condition described in column 2 (Table 1; column 2). The risk condition is met when the listed entity (i.e., species, subspecies, or Distinct Population Segment) is considered at risk for that category. For example, populations or subpopulations within a listed entity may vary in terms of their productivity. Some may be at or below depensation, while others are stable and healthy. In those cases, we consider which population(s) contributes most substantially to the overall viability of the listed entity. If certain populations or subpopulations are at or below depensation and are so important to the listed entity that their loss would substantially increase the listed entity's extinction risk, then the risk condition applies.

If an endangered species meets any of the risk conditions in column 2 (Table 1), then the species is considered a HIGH demographic risk, regardless of its population trend. If an endangered species does not meet any of the risk conditions in column 2 (Table 1), then population trend information is used to categorize the demographic risk—e.g., HIGH if the population trend is declining or unknown, MODERATE or HIGH if the trend is mixed, and MODERATE if the trend is stable, or increasing. For a mixed population trend, a HIGH rating should be assigned if key populations are declining such that their continued decline would contribute substantially to the listed entity achieving the adverse risk conditions described in Table 1, otherwise a MODERATE rating should be assigned for mixed population trends.

If a threatened species meets any of the risk conditions in column 2 (Table 1), the species is assigned a MODERATE demographic risk, regardless of its population trend. If a threatened species does not meet any of the risk conditions in column 2 (Table 1), its population trend is used to assign the demographic risk—e.g., MODERATE if the trend is declining or unknown, LOW or MODERATE if the trend is mixed, and LOW if the trend is stable, or increasing. For a mixed population trend, a MODERATE rating should be assigned if key populations are declining such that their continued decline would contribute substantially to the listed entity achieving the adverse risk conditions described in Table 1, otherwise a LOW should be assigned for mixed population trends.

We report the species' population trends biennially to Congress pursuant to section 4(f)(3). To ensure consistency with what we report to Congress and how we set priorities for recovery planning and implementation, we will apply the following general guidelines:

Use a minimum of 3 or more abundance estimates for key population(s) over 10 year period or, depending on taxa (e.g., sea turtles), all available data years (>3 data points) for trend estimation.

1. Increasing: The species (includes consideration of all population units that make up the species `as-listed') shows measurably higher numbers from assessment to assessment.

2. Stable: The species shows no measurable increase or decrease over the period of time between assessments.

3. Decreasing: The species shows measurably lower numbers from assessment to assessment.

4. Mixed: Mixed is a designation reserved for species with multiple populations, and species are considered mixed if there are at least 3 data points and the criteria for increasing, decreasing, and stable are not met.

5. Unknown: The species has fewer than 3 data points over a 10 year period to estimate trends or there is uncertainty over data quality.

Table 1—Severity of Species' Demographic Risk
Demographic risk category | Risk condition | Demographic risk rank ¹: Endangered | Demographic risk rank ¹: Threatened
Productivity Spatial distribution | At or below depensation Limited/fragmented Spatial Distribution; vulnerable to catastrophe | If any one of these risk conditions is met, the ranking is HIGH. If not, use the Trend information below to determine rank | If any one of these risk conditions is met, the ranking is MODERATE. If not, use the Trend information below to determine rank.
Diversity | Low genetic and phenotypic diversity severely limiting adaptive potential
Abundance | One, or a few, small population(s) or subpopulations
Trends | Decreasing Trend/Unknown | HIGH | MODERATE.
| Mixed Trend | HIGH/MODERATE | MODERATE/LOW.
| Stable Trend | MODERATE | LOW.
| Increasing Trend | MODERATE | LOW.
¹ For those species with recovery plans, the endangered or threatened category may be applied to a species currently not listed as such if NMFS has recommended a reclassification through a 5-year review or proposed rule.

Step 2. Identify Categories of Recovery Potential

In Step 2, we evaluate a species' recovery potential. We have defined recovery potential to include three components: (1) Whether the origin of major threats is known and the species response to those major threats is well understood; (2) whether the United States has jurisdiction, authority, or influence to implement management or protective actions to address major threats; and (3) the certainty that management or protective actions will be effective. Each of the three components is considered to be “High” or “Low to Moderate” based on the following definitions:

Recovery Potential Component 1: Major Threats Well Understood

• High: Natural and man-made threats that have a major impact on the species' ability to persist have been identified, and the species' response to those threats are well understood. Data needs to fill knowledge gaps on major threats that have an impact on the species' ability to persist are minimal.

• Low to Moderate: Natural and man-made threats that have or are believed to have a major impact on the species' ability to persist may not have been identified, and/or the species' response to those major threats are not well understood. Data needs to fill knowledge gaps on major threats that have or are believed to have an impact on the species' ability to persist are substantial.

Recovery Potential Component 2: U.S. Jurisdiction, Authority, or Influence Exists for Management or Protective Actions To Address Major Threats

• High: Management or protective actions to address major threats are primarily under U.S. authority or the United States can influence the abatement of major threats through existing international mechanisms (e.g., treaties, conventions, and agreements).¹ This also applies to transnational species that spend only a portion of their life cycle in U.S. waters, but major threats can be addressed by U.S. actions during that portion of their life cycle. Where climate change impacts are a major threat and necessary actions to abate the threat are global in nature, management or protective actions under U.S. authority to address a threat that would help offset the impacts of climate change would fall into this category.

¹ Including in the U.S. territorial sea, Exclusive Economic Zone and the high seas.

• Low to Moderate: Management or protective actions to address major threats are mainly outside U.S. authority or ability to influence the abatement of major threats in other waters through existing international mechanisms (e.g., treaties, conventions, and agreements).

Recovery Potential Component 3: Certainty That Management or Protective Actions Will Be Effective

• High: Management or protective actions do not use novel or experimental techniques, are technically feasible, and have been successful at removing, reducing or mitigating effects of major threats. Where climate change impacts are a major threat and actions to abate the threat are global, then management or protective actions under U.S. authority that effectively address a threat to help offset the impacts of climate change would fall into this category. Demonstrated success may be incremental on a small scale or with a few individuals, and can be demonstrated through surrogate species. For species with current recovery plans, high certainty of effectiveness may be measured on the basis of individual recovery actions. If there are multiple recovery actions needed to address a major threat that impedes recovery, not all need to fit the criteria of high certainty of effectiveness. If there are multiple major threats, only one major threat needs to meet the high level of certainty to be assigned this category.

• Low to Moderate: Management or protective actions, if known, may be novel or experimental, may not be technically feasible, and have less certainty of removing, reducing, or mitigating effects of major threats.

Step 3. Assign Recovery Priority Number for Plan Development and Implementation

In Step 3, we combine the results of the Demographic Risk Rank (Step 1) and Recovery Potential (Step 2) to assign Recovery Priority numbers, which will be used to prioritize resources for recovery plan development and implementation. We assign the greatest weight to demographic risk (Table 2; column 1), because species with more severe demographic risks are at greater risk of extinction. Although demographic risk is the most important factor to consider in assigning a Recovery Priority number, the species' recovery potential is also an important factor. For example, a species with a HIGH demographic risk and a low recovery potential for all three components (major threats understood, management actions exist under U.S. authority or influence to abate major threats, and certainty that actions will be effective) will be a lower priority than a species with a MODERATE or LOW demographic risk and a high recovery potential.

For Recovery Potential (Table 2; Columns 2, 3, and 4), we assign the weights as follows:

1. The greatest weight is given to when major threats are well understood. In order to identify effective management or protective actions, we need to understand the threats that impact the species' ability to persist;

2. The second greatest weight is given to management or protective actions under U.S. authority or ability to influence the abatement of major threats. We acknowledge that management or protective actions outside of U.S. authority exist and may greatly influence recovery progress for transnational species that spend a portion of their life history within U.S. waters. However, for the purposes of prioritizing, we assign a greater weight to those species and recovery plans for which recovery actions are or are expected to be mainly under U.S. authority because this is where we have the greatest influence to implement recovery actions;

3. The lowest weight is given to the certainty that management or protective actions will be effective, because the likelihood of effectiveness depends on whether sufficient knowledge of threats to develop actions exists and are under U.S. authority or ability to influence implementation of such actions;

Table 2—Recovery Priority for Recovery Plan Development and Implementation
Demographic risk ᵃ | Recovery potential: Major threats are well understood | Recovery potential: U.S. Jurisdiction, authority, or influence exists for management or protective actions to address major threats | Recovery potential: Certainty that management or protective actions will be effective | Recovery priority
HIGH | High | High | High | 1
HIGH | High | High | Low to Moderate | 2
HIGH | High | Low to Moderate | High | 3
MODERATE | High | High | High | 4
HIGH | Low to Moderate | High | High | 5
HIGH | High | Low to Moderate | Low to Moderate | 6
MODERATE | High | High | Low to Moderate | 7
LOW | High | High | High | 8
HIGH | Low to Moderate | High | Low to Moderate | 9
MODERATE | High | Low to Moderate | High | 10
LOW | High | High | Low to Moderate | 11
HIGH | Low to Moderate | Low to Moderate | High | 12
MODERATE | Low to Moderate | High | High | 13
MODERATE | High | Low to Moderate | Low to Moderate | 14
LOW | High | Low to Moderate | High | 15
HIGH | Low to Moderate | Low to Moderate | Low to Moderate | 16
MODERATE | Low to Moderate | High | Low to Moderate | 17
LOW | Low to Moderate | High | High | 18
LOW | High | Low to Moderate | Low to Moderate | 19
MODERATE | Low to Moderate | Low to Moderate | High | 20
LOW | Low to Moderate | High | Low to Moderate | 21
MODERATE | Low to Moderate | Low to Moderate | Low to Moderate | 22
LOW | Low to Moderate | Low to Moderate | High | 23
LOW | Low to Moderate | Low to Moderate | Low to Moderate | 24
ᵃ Demographic Risk Rank was determined in Table 1. HIGH or MODERATE may be an Endangered species and MODERATE or LOW may be a Threatened species (see Table 1).

Step 4. Assign Recovery Action Priority

In Step 4, we prioritize recovery actions contained in a recovery plan. NMFS will assign recovery action priorities of 1 to 4 based on the criteria described below. Assigning priorities does not imply that some recovery actions are not important; instead, it simply means that they may be deferred while higher priority recovery actions are being implemented. All recovery actions will be assigned priorities based on the following:

Priority 1 Actions: These are the recovery actions that must be taken to prevent extinction and often require urgent implementation. Because threatened species by definition are likely to become an endangered species within the foreseeable future and are presently not in danger of extinction, Priority 1 should be given primarily to recovery actions for species ranked as HIGH demographic risk in Table 1. The use of Priority 1 recovery actions in a recovery plan for a species with MODERATE demographic risk should be done judiciously and thoughtfully. Even the highest priority actions within a particular plan will not be assigned a Priority 1 ranking unless they are actions necessary to prevent a species from becoming extinct or are research actions to fill knowledge gaps and identify management actions necessary to prevent extinction. Therefore, some plans will not have any Priority 1 actions.

Priority 2 Actions: These are actions to remove, reduce, or mitigate major threats or fill knowledge gaps and prevent continued population decline, but their implementation is less urgent than Priority 1 actions.

Priority 3 Actions: These are all actions that should be taken to remove, reduce, or mitigate any remaining threats and ensure the species can maintain an increasing or stable population to achieve delisting criteria, including monitoring to demonstrate achievement of demographic criteria.

Priority 4 Actions: These are actions that are not linked to downlisting and/or delisting criteria and are not needed for ESA recovery, but are needed to facilitate post-delisting monitoring, such as the development of a post-delisting monitoring plan that provides monitoring design (e.g., sampling error estimates). Some of these actions may carry out post-delisting monitoring.

Priority 0 Other Actions: These are actions that are not needed for ESA recovery but that would advance broader goals beyond delisting. Other actions include, for example, other legislative mandates or social, economic, and ecological values. These actions are given a zero priority number because they do not fall within the priorities for delisting the species, yet the numeric value allows tracking these types of actions in the NMFS' Recovery Action Mapping Tool Database.

We must avoid assigning recovery actions a higher priority than is warranted. For example, threatened species by definition are likely to become an endangered species within the foreseeable future and are presently not in danger of extinction; thus a Priority 1 would likely not apply to recovery actions for a threatened species. Even the highest priority actions within a particular plan should not be assigned a Priority 1 ranking unless they are actions necessary to prevent a species from becoming extinct or are research actions to fill knowledge gaps and identify management actions necessary to prevent extinction. Therefore, some plans will not have any Priority 1 actions. At the same time, we also need to be careful not to assign a lower priority than is warranted, simply because an action is but one component of a larger effort that must be undertaken. For instance, there is often confusion as to whether a research action can be assigned a Priority of 1 since, in and of itself, it will not prevent extinction. However, the outcome of a research project may provide critical information necessary to initiate a protective action to prevent extinction (e.g., applying the results of a genetics study to a captive propagation program for a seriously declining species) and would warrant Priority 1 status.

Most actions will likely be Priority 2 or 3, since the majority of actions will likely contribute to preventing further declines of the species, but may not prevent extinction. This system recognizes the need to work toward the recovery of all listed species, not simply those facing the highest magnitude of threat. In general, NMFS intends that Priority 1 actions will be addressed before Priority 2 actions and Priority 2 actions before Priority 3 actions, etc. But we also recognize that some lower priority actions may be implemented before Priority 1 actions, for example because a partner is interested in implementing a lower priority action, because a Priority 1 action is not currently possible (e.g., there is lack of political support for the action), or because implementation of the Priority 1 action may take many years.

For some species, especially those with complicated recovery programs involving many actions, it may be useful to assign sub-priorities within these categories, e.g., Priority 2a, Priority 2b, Priority 2c. If sub-priorities are assigned, a definition of, and criteria for, each sub-priority should be provided in the recovery plan.

Table 3—Recovery Plan Recovery Action Priority Numbers
Priority | Description
1 | Actions that must be taken to prevent extinction, including research actions to identify those actions that must be taken to prevent extinction.
2 | Actions that must be taken to prevent a significant decline in species population/habitat quality or in some other significant negative impact short of extinction. This includes research actions to identify those actions that must be taken to prevent such impacts.
3 | Remaining actions that must be taken to achieve delisting criteria, including monitoring to demonstrate achievement of demographic criteria.
4 | Actions necessary to facilitate post-delisting monitoring.
0 | All other actions that are not required for ESA recovery but that would advance broader goals beyond delisting.

Process for Applying the Revised Part B: Recovery Plan Preparation and Implementation Priorities

The lead NMFS Region or Headquarters will identify a species' Recovery Priority number (Step 3; Table 2) by assessing the species' Demographic Risk Category (Step 1; Table 1) and Recovery Potential (Step 2) and apply it to the Recovery Priority (Step 3; Table 2). Where multiple NMFS Regions are involved, the lead region or headquarters office will coordinate with all NMFS regions involved to reach consensus on the Demographic Risk Category, Recovery Potential, and Recovery Priority. Application of these guidelines to assess recovery priority relative to all species within our jurisdiction will be done on a biennial basis as part of the report to Congress (section 4(f)(3)) and through the 5-year review process (section 4(c)(2)). We anticipate the recovery prioritization to be a dynamic process—as more information is made available through research and monitoring about demographic risk, limiting factors and threats, the species could move up or down the priority scale depending on whether the new information reveals there are management or protective actions that can be implemented and be effective at recovering the species.

Recovery Action Priority Numbers will be assigned to each recovery action when the recovery plan is developed, revised, or updated. These revised guidelines will apply only to plans that are developed, revised, or updated after the finalization of these guidelines. As the results of research or monitoring of recovery implementation become available, the Recovery Action Priority Numbers can be modified through plan updates or revisions to address changing priorities based on this new information.

Proposed Revisions to Part C: Recovery Plans

NMFS believes that periodic review of and updates to recovery plans and tracking recovery efforts are important elements of a successful recovery program. As we develop recovery plans for each species, specific recovery actions are identified and prioritized according to the criteria discussed above. This prioritization process recognizes that recovery plans should be viewed as living documents, and that research and monitoring, planning, and implementation describe a cycle of adaptive implementation of recovery actions for ESA-listed species. Even after recovery planning is complete and the plan is being implemented, key information gaps and uncertainties should constantly be evaluated. Research and monitoring results should inform recovery plan changes and refine strategies to implement recovery actions. The recovery action priority ranking, together with the species recovery priority, will be used to set priorities for funding and implementation of individual recovery actions.

Definitions

For purposes of this guidance only, the below terms have the following meanings:

Endangered species: Any species that is in danger of extinction throughout all or a significant portion of its range. NMFS interprets an “endangered species” to be one that is presently in danger of extinction.

Demographic Risk: Characteristics of a population (productivity, spatial distribution, diversity, abundance, and population trend) that are indicators of the species ability to persist.

Depensation: The effect on a population whereby, due to certain causes, a decrease in the breeding population leads to reduced production and survival of eggs or offspring.

Foreseeable future: For purposes of this guidance, the “foreseeable future” describes the extent to which the Secretary can, in making determinations about the future conservation status of the species, reasonably rely on predictions about the future (Department of the Interior Solicitor's Memorandum M-37021, “The Meaning of `Foreseeable Future' in Section 3(20) of the Endangered Species Act”(Jan. 16, 2009)). The time period that constitutes the foreseeable future is case-specific and should consider the life history of the species, habitat characteristics, availability of data, kinds of threats, ability to predict threats and their impacts, and the reliability of models used to forecast threats over that “foreseeable future.”

Major Threat: A `major' threat is defined as a threat whose scope, immediacy, and intensity results in a response by the species that prevents the improvement of its status to the point that such species may not be reclassified or delisted based on the factors set out in section 4(a)(1) of the ESA. Conversely, non-major threats are those threats whose scope, immediacy, and intensity results in a response by the species but singularly or cumulatively do not prevent the improvement of its status to the point that such species may be reclassified or delisted based on the factors set out in section 4(a)(1) of the ESA.

Technically Feasible: Technically feasible refers to the scientific, engineering, and operational aspects of management or protective actions that are capable of being implemented.

Threatened species: Any species which is likely to become an endangered species within the foreseeable future throughout all or a significant portion of its range. A “threatened species” is not presently in danger of extinction, but is likely to become so in the foreseeable future. The primary statutory difference between a threatened species and an endangered species is the timing of when a species is in danger of extinction, either presently (endangered) or in the foreseeable future (threatened).

Authority: 16 U.S.C. 1531 et seq.

Dated: May 24, 2017.
Alan D. Risenhoover,
Acting Deputy Assistant Administrator for Regulatory Programs, National Marine Fisheries Service.

[FR Doc. 2017-11157 Filed 5-30-17; 8:45 am]

BILLING CODE 3510-22-P